DEPARTMENT OF THE INTERIOR

Fish and Wildlife Service

DEPARTMENT OF COMMERCE

National Oceanic and Atmospheric Administration

[I.D. 060705C]

Notice of Intent to Conduct Public Scoping Meetings and to Prepare an Environmental Impact Statement Related to the Family Forest Habitat Conservation Plan

AGENCIES: Fish and Wildlife Service (FWS), Interior; National Marine Fisheries Service (NMFS), National Oceanic and Atmospheric Administration (NOAA), Commerce.

ACTION: Notice of intent to conduct scoping meetings.

SUMMARY: The U.S. Fish and Wildlife Service and National Marine Fisheries Service (Services) advise interested parties of their intent to conduct public scoping under the National Environmental Policy Act (NEPA) to gather information to prepare an Environmental Impact Statement (EIS) related to a permit application from Lewis County, Washington for the incidental take of listed species. The permit application would be associated with the Family Forest Habitat Conservation Plan in the Chehalis and Cowlitz River watersheds located in Lewis County, Washington.

DATES: The public scoping meeting will be held on July 28, 2005, from 5 p.m. - 8 p.m.

Written comments should be received on or before September 8, 2005.

ADDRESSES: The meeting will be held at the Forest Grange, 3397 Jackson Highway, Chehalis, WA 98532.

All comments concerning the preparation of the EIS and the NEPA process should be addressed to: Mark Ostwald, FWS, 510 Desmond Drive S.E., Suite 102, Lacey, WA 98503, facsimile (360)753-9518 or Laura Hamilton, NMFS, 510 Desmond Drive S.E., Suite 103, Lacey, WA 98503-1273, facsimile (360)753-9517. Comments may be submitted by e-mail to the following address: FamilyForest.nwr@noaa.gov. In the subject line of the e-mail, include the document identifier: The Family Forest HCP - EIS.

FOR FURTHER INFORMATION CONTACT: Mark Ostwald, FWS, (360)753-9564, or Laura Hamilton, NMFS, (360)753-5820.

SUPPLEMENTARY INFORMATION:

Reasonable Accommodation

Persons needing reasonable accommodations in order to attend and participate in the public meeting should contact Mark Ostwald (see FOR FURTHER INFORMATION CONTACT). In order to allow sufficient time to process requests, please call no later than July 21, 2005. Information regarding the applicant's proposed action is available in alternative formats upon request.

Statutory Authority

Section 9 of the Endangered Species Act (16 U.S.C. 1532 et seq.) and implementing regulations prohibit the taking of animal species listed as endangered or threatened. The term “take” is defined under the ESA (16 U.S.C. 1532(19)) as to mean harass, harm, pursue, hunt, shoot, wound, kill, trap, capture, or collect, or to attempt to engage in any such conduct. “Harm” is defined by the FWS to include significant habitat modification or degradation where it actually kills or injures wildlife by significantly impairing essential behavioral patterns, including breeding, feeding, and sheltering (50 CFR 17.3). NMFS' definition of “harm” includes significant habitat modification or degradation where it actually kills or injures fish or wildlife by significantly impairing essential behavioral patterns, including breeding, feeding, spawning, migrating, rearing, and sheltering (64 FR 60727, November 8, 1999).

Section 10 of the ESA specifies requirements for the issuance of incidental take permits (ITPs) to non-Federal landowners for the take of endangered and threatened species. Any proposed take must be incidental to otherwise lawful activities, not appreciably reduce the likelihood of the survival and recovery of the species in the wild and minimize and mitigate the impacts of such take to the maximum extent practicable. In addition, an applicant must prepare a habitat conservation plan describing the impact that will likely result from such taking, the strategy for minimizing and mitigating the incidental take, the funding available to implement such steps, alternatives to such taking, and the reason such alternatives are not being implemented.

NEPA (42 U.S.C. 4321 et seq.) requires that Federal agencies conduct an environmental analysis of their proposed actions to determine if the actions may significantly affect the human environment. Under NEPA, a reasonable range of alternatives to proposed projects is developed and considered in the Services' environmental review. Alternatives considered for analysis in an EIS may include: variations in the scope of covered activities; variations in the location, amount, and type of conservation; variations in permit duration; or, a combination of these elements. In addition, the EIS will identify potentially significant direct, indirect, and cumulative impacts on biological resources, land use, air quality, water quality, water resources, socioeconomics, and other environmental issues that could occur with the implementation of the applicant's proposed actions and alternatives. For all potentially significant impacts, the EIS will identify avoidance, minimization, and mitigation measures to reduce these impacts, where feasible, to a level below significance.

Background

The EIS will analyze the potential issuance of two ITPs, one by NMFS and one by the FWS. To obtain an ITP, the applicant must prepare a habitat conservation plan that meets the issuance criteria established by the ESA and Service regulations (50 CFR 17.22(b)(2) and 222.307). Should a permit or permits be issued, the permit(s) may include assurances under the Services' “No Surprises” regulations.

On June 29, 2000, NMFS and the FWS published a notice in the Federal Register stating the Services' joint intent to prepare an EIS on this action (65 FR 40078). However, the Services are now providing new notice of public scoping because of changes in the applicant's proposed action and to the affected environment.

Lewis County is seeking ITPs from the Services that would provide regulatory certainty for family forest landowners making long-term commitments to forest resource protection. Lewis County believes these assurances may encourage family forest landowners to remain in forest management instead of converting lands to non-forest uses. As currently proposed, incidental take permits would be issued to Lewis County. The county would in turn provide certificates of inclusion to landowners after verifying they meet eligibility criteria and agree to comply with the HCP. Eligible landowners would be those that hold lands below elevation of 1,250 feet within the Chehalis and Cowlitz River watersheds in Lewis County, and harvest less than two million board feet of timber per calendar year.

As of 2004, approximately 133,000 acres were owned by small forest landowners who met these criteria in Lewis County. The permits, if issued would provide incidental take coverage for activities on a maximum of 200,000 acres in the County. A permit amendment would be required to exceed the acreage, which could be subject to additional NEPA review. The Washington Department of Natural Resources (DNR) would verify compliance with the HCP concurrent with harvest activities, and Lewis County and the Services would conduct additional compliance monitoring at other times. Annual Implementation reports would be provided by Lewis County to the Services.

Forestry activities that Lewis County is proposing for ITP coverage, and for which minimization and mitigation measures are being developed, include the following:

• All activities involved in timber management and harvest including: mechanical site preparation, prescribed burning, reforestation, vegetation management (other than with herbicides), pre-commercial thinning, commercial thinning, timber salvage, other commercial harvest (felling, bucking, limbing, yarding, skidding, processing, loading, and hauling) of timber, fire prevention, fire suppression (including mop-up activities), and non-chemical pest control;

• Construction, reconstruction, improvement, maintenance, abandonment, closure, and use of logging roads, spurs, landings, and decking areas;

• Quarrying, processing, and transporting of stone, gravel, and/or dirt for use in roads;

• Administrative activities, such as land surveying, timber cruising, and other resource inventorying;

• All activities required by the HCP or ITP; and

• Entering into and administering access rights, utility rights-of-ways, and recreational and hunting leases.

Species for which Lewis County seeks coverage include 33 species of fish and up to 44 species of wildlife. Seven of the species are currently listed as threatened under the ESA, including: Lower Columbia River Chinook salmon (Oncorhynchus tshawytscha), Columbia River chum salmon (O. keta), Lower Columbia River steelhead/rainbow trout (O. mykiss), bald eagle (Haliaeetus leucocephalus), marbled murrelet (Brachyramphus marmoratus), northern spotted owl (Strix occidentalis caurina), and gray wolf (Canis lupus). Lower Columbia River coho salmon (O. kisutch) are proposed for listing and yellow-billed cuckoo (Coccyzus americanus) is a candidate species. Thirteen species proposed for permit coverage are Federal species of concern.

The draft HCP to be prepared by Lewis County in support of the ITP applications will describe the impacts of take on proposed covered species, and will propose a conservation strategy to minimize and mitigate those impacts on each covered species to the maximum extent practicable. This conservation strategy would follow the basic strategies employed in the current State Forest Practices Rules with modifications to address site-specific ecological conditions of the eligible lands. Streams would be protected with combinations of no-harvest and partial harvest buffers; roads would be designed, constructed, and maintained to minimize erosion and mass wasting; specified numbers of snags, logs, and residual live trees would be retained in uplands; and the size of timber harvests would be constrained to minimize potential cumulative effects. Protection of steep and unstable slopes, road construction, and road maintenance would follow State Forest Practices Rules, including any changes made to those rules through the adaptive management process associated with the Forest Practices Habitat Conservation Plan. Harvest unit size would be restricted to a maximum of 60 acres.

The draft HCP will identify HCP alternatives considered by Lewis County and will explain why those alternatives were not selected. The Services are responsible for determining whether the HCP satisfies ESA section 10 permit issuance criteria.

Under NEPA, a reasonable range of alternatives to a proposed project must be developed and considered in the Services' environmental review. The Services have identified the following preliminary alternatives for public comment during the public scoping period:

Alternative 1: No Action - Under the No Action Alternative, an ITP would not be issued by the Services and the HCP would not be approved. Family forest landowners in Lewis County wishing to continue practicing forestry would be required to comply with Washington State Forest Practices Rules (WAC 222) concerning the protection of listed fish and wildlife;

Alternative 2: The Proposed Action - There would be full implementation of the HCP, which includes a set of site-specific riparian and upland habitat conservation measures that would be specific to eligible family forest parcels in Lewis County;

Alternative 3: The proposed HCP would be modified by changing or adding measures to further reduce the amount and risk of incidental take. These measures could include different approaches to ESA compliance, conservation commitments, adaptive management, permit timeframes, covered lands, covered species, eligible parties, or covered activities; and

Additional project alternatives may be developed based on input received from the public scoping process.

Request for Comments

The primary purpose of the scoping process is for the public to assist the Services in developing the EIS by identifying important issues and alternatives related to the applicant's proposed action. A scoping workshop will allocate time for informal discussion and questions with presentations by the Services and Lewis County.

Written comments from interested parties are welcome to ensure that the full range of issues related to the proposed ITP are identified. All comments and materials received, including names and addresses, will become part of the administrative record and may be released to the public.

Comments and materials received will be available for public inspection, by appointment, during normal business hours at the offices listed in the ADDRESSES section of this notice.

The Services request that comments be specific. In particular, we request information regarding: direct, indirect, and cumulative impacts that implementation of the proposed HCP or other alternatives could have on endangered and threatened and other covered species, and their communities and habitats; other possible alternatives that meet the purpose and need; potential adaptive management and/or monitoring provisions; funding issues; existing environmental conditions in the plan area; other plans or projects that might be relevant to this proposed project; permit duration; maximum acreage that should be covered; limited entry time-frame for issuing certificates of inclusion; specific species that should or should not be covered; specific landforms that should or should not be covered; and minimization and mitigation efforts. NMFS and FWS estimate that the draft EIS will be available for public review in the spring of 2006.

The environmental review of this project will be conducted in accordance with the requirements of the NEPA of 1969 as amended (42 U.S.C. 4321 et seq.), Council on the Environmental Quality Regulations (40 CFR parts 1500 - 1518), other applicable Federal laws and regulations, and applicable policies and procedures of the Services. This notice is being furnished in accordance with 40 CFR 1501.7 to obtain suggestions and information from other agencies and the public on the scope of issues and alternatives to be addressed in the EIS.

Dated: July 1, 2005.
Chris McKay,
Acting Deputy Regional Director, Fish and Wildlife Service, Region 1, Portland, Oregon.

Dated: July 20, 2005.
P. Michael Payne
Acting Chief, Endangered Species Division, Office of Protected Resources, National Marine Fisheries Service.

[FR Doc. 05-14621 Filed 7-22-05; 8:45 am]

BILLING CODES 4310-55-S, 3510-22-S